DEPARTMENT OF COMMERCE

National Oceanic and Atmospheric Administration

[I.D. 060204B]

Pacific Fishery Management Council; Public Meeting

AGENCY: National Marine Fisheries Service (NMFS), National Oceanic and Atmospheric Administration (NOAA), Commerce.

ACTION: Notice of public meeting.

SUMMARY: The Pacific Fishery Management Council (Council) and NMFS will hold a coastal pelagic species (CPS) stock assessment review (STAR) panel to review assessment methods for Pacific mackerel and Pacific sardine.

DATES: The workshop is scheduled for Monday, June 21, 2004 through Friday, June 25, 2004. See SUPPLEMENTARY INFORMATION for specific dates and times.

ADDRESSES: The STAR panel will be held at the NMFS Southwest Fisheries Science Center, Large Conference Room, 8604 La Jolla Shores Drive, Room D-203, La Jolla, CA 92037; telephone: (858) 546-7000.

Council address: Pacific Fishery Management Council, 7700 NE Ambassador Place, Suite 200, Portland, OR 97220-1384.

FOR FURTHER INFORMATION CONTACT: Dan Waldeck, Pacific Fishery Management Council (503) 820-2280; or Anne Allen, Southwest Fisheries Science Center (858) 546-7000.

SUPPLEMENTARY INFORMATION: The workshop will be held on Monday, June 21, 2004, from 8 a.m to 5 p.m.; Tuesday, June 22, 2004, from 8 a.m. to 5 p.m.; Wednesday, June 23, 2004, from 8 a.m. to 5 p.m.; Thursday, June 24, 2004, from 8 a.m. to 5 p.m.; and Friday, June 25, from 8 a.m. until business for the day is completed.

The purpose of the CPS STAR Panel meeting is to review draft stock assessment documents and any other pertinent information for Pacific mackerel and Pacific sardine, work with the Stock Assessment Teams to make necessary revisions, and produce a STAR Panel report for use by the Council family and other interested persons for developing management recommendations for the 2005 Pacific sardine fishery and 2005/06 Pacific mackerel fishery.

Although non-emergency issues not contained in this notice may arise during the STAR Panel, those issues may not be the subject of formal action during this meeting. Formal action will be restricted to those issues specifically listed in this notice and any issues arising after publication of this notice that require emergency action under section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least five days prior to the meeting date.

Entry to the Southwest Fisheries Science Center (SWFSC) requires visitors to register with the front office each morning. A visitor's badge, which must be worn while at (SWFSC), will be issued to non-Federal employees participating in the meeting. Since parking is at a premium at the SWFSC, car pooling, and mass transit are encouraged.

Dated: June 2, 2004.
Alan D. Risenhoover,
Acting Director, Office of Sustainable Fisheries, National Marine Fisheries Service.

[FR Doc. E4-1257 Filed 6-7-04; 8:45 am]

BILLING CODE 3510-22-S